DEPARTMENT OF AGRICULTURE

Forest Service

Klamath National Forest, California, Westside Fire Recovery Project

AGENCY: Forest Service, USDA.

ACTION: Notice of intent to prepare an environmental impact statement.

SUMMARY: The Klamath National Forest will prepare an environmental impact statement (EIS) on a proposal to reduce safety hazards to the public and forest workers, obtain the maximum economic commodity values from burned timber, and increase the likelihood and speed by which burned forested areas are regenerated on about 63,883 acres that burned with high severity in the Beaver Creek, Whites, and Happy Camp Complex fires in 2014. The project area includes 162,264 acres of National Forest System lands and 20,863 acres of private land. Treatments for the project will be limited to National Forest System lands. It is located on the west side of the Forest within the Beaver Creek, Horse Creek-Klamath River, Humbug Creek-Klamath River, Elk Creek, Indian Creek, Lower Scott River, Seiad Creek-Klamath River, Thompson Creek-Klamath River, Ukonom Creek-Klamath River, French Creek-Scott River, North Fork Salmon River, and South Fork Salmon River 5th field watersheds. The legal description of the project area is Township (T) 39 North (N) Range (R) 10 West (W), T39NR11W, T40NR8W, T40NR10W, T40NR11W, T41NR10W, T41NR11W, T43NR12W, T44NR11W, T44NR12W, T45NR10W, T45NR11W, T45NR12W, T46NR8W, T46NR9W, T46NR10W, T46NR11W, T46NR12W, T47NR8W, T47NR9W, and T47NR10W of the Humboldt Meridian and T14NR8 East (E), T15NR7E, T15NR8E, T16NR7E, T16NR8E of the Humboldt Meridian.

DATES: The comment period on the proposed action will extend 30 days from the date the Notice of Intent is published in the Federal Register. The draft EIS is expected to be completed by March 2015, and the final EIS is expected to be completed by June 2015.

ADDRESSES: Send written comments to: Patricia A. Grantham, Forest Supervisor, Klamath National Forest, 1711 South Main Street, Yreka, California 96097, ATTN: Westside Fire Recovery Team Leader, or send facsimile to 530-841-4571. Submit electronic comments at the Klamath National Forest's project Web page: http://www.fs.fed.us/nepa/fs-usda-pop.php/?project=45579 by selecting the “Comment on Project” link in the “Get Connected” group at the right hand side of the project Web page. Put the project name in the subject line; attachments may be in the following formats: Plain text (.txt), rich text format (.rtf), Word (.doc, .docx), or portable document format (.pdf).

FOR FURTHER INFORMATION CONTACT: Wendy Coats, Klamath National Forest, Yreka, California 96097. Phone: 530-841-4470. Individuals who use telecommunication devices for the deaf (TDD) may call the Federal Information Relay Service (FIRS) at 1-800-877-8339 between 8 a.m. and 8 p.m., Eastern Time, Monday through Friday.

SUPPLEMENTARY INFORMATION:

Purpose and Need

The purpose of this project is to:

1. Reduce safety hazards to adjacent landowners, the public, and Forest workers from falling trees (i.e. “hazard trees,” also known as “danger trees”) or hazardous fuels conditions. Trees killed or severely burned by wildfire (i.e. snags) are often unstable and at risk for falling or snapping off, especially during high wind events. It is important that safety is maintained and hazardous fuels conditions are abated, where they exist within the Wildland Urban Interface, especially within one-quarter mile of private property in burned areas or within areas that underwent fire suppression-related activity. It is also imperative that infrastructure, especially utility lines, roads, trailheads, campgrounds, fire lookouts, and bridges, are maintained for use by the public and Forest workers. Further, dead and dying trees within proposed salvage harvest areas need to be addressed to minimize safety hazards to the public who recreate in the area, Forest workers (i.e. planting), and firefighters (i.e. to enable future suppression efforts should the area burn again).

2. Obtain the maximum economic commodity and value from burned timber by offering a sale while the wood is still marketable. The Forest Plan directs the Forest to harvest dead or dying trees to produce wood products as consistent with Forest goals. Dead timber loses significant value if left standing beyond two winters and is most profitable if harvested even sooner. Capturing the marketability of the timber provides the agency a viable means of meeting this and other project needs, since the timber sale can be used to fund restoration implementation. If treatment is delayed beyond the marketability period of the timber, the Forest Service will need to pay for the hazard tree abatement and removal of dead and dying trees in order to meet the first need described above. By contrast, if salvage occurs during the marketability period, funds gained from the salvage sale can be used for additional restoration work. Capturing the maximum economic value of the salvaged timber will benefit Siskiyou County and surrounding communities by maintaining and/or creating jobs in forest management by providing timber to the local mills who are major employers of these rural communities.

3. Promote ecosystem sustainability by increasing the likelihood and speed by which burned, forested areas are restored. Although wildfires have some benefits (e.g., snag and downed wood creation), intensely burned forested areas may be slow to recover and heavy fuel loading will result from fallen snags. Following a high severity wildfire, heavy fuel loading predisposes an area to higher intensity and higher severity wildfires in the future. Such fires would inhibit stand regeneration, resulting in stand type changes to brush or other non-forested vegetation types and delaying these lands from reaching the desired conditions of the Forest Plan.

Proposed Action

The proposed action was designed to meet the purpose and need for action. The proposed action will treat a total of about 63,883 acres within the 214,848-acre project boundary (10,600 acres of salvage harvest, 21,872 acres of roadside hazard treatment, 11,411 acres of hazardous fuels treatment and 20,000 acres of site preparation, planting and release). Acres do not account for the overlap in treatment types. Treatment acreages are approximate at this point and will be adjusted and refined following scoping.

Responsible Official

Patricia A. Grantham, Forest Supervisor, Klamath National Forest, 1711 South Main Street, Yreka, CA 96097.

Nature of Decision To Be Made

The responsible official will decide whether to adopt and implement the proposed action, an alternative to the proposed action, or take no action to make changes to existing conditions in the Westside Fire Recovery Project Area.

Scoping Process

Public participation is important at numerous points during the analysis. The Forest Service seeks information, comments and assistance from federal, state, and local agencies and individuals or organizations that may be interested in or affected by the proposed action.

The Forest Service conducts scoping according to the Council on Environmental Quality (CEQ) regulations (40 CFR 1501.7). In addition to other public involvement, this Notice of Intent initiates an early and open process for determining the scope of issues to be addressed in the EIS and for identifying the significant issues related to a proposed action. This scoping process allows the Forest Service to not only identify significant environmental issues deserving of study, but also to deemphasize insignificant issues, narrowing the scope of the EIS process accordingly (40 CFR 1500.4(g)).

This project is subject to comment pursuant to 36 CFR 218, Subparts A and B; however, the Forest is requesting an emergency situation determination as provided for in 36 CFR 218.21. If it is determined that an emergency situation exists with respect to all or part of the proposed project or activity, the proposed action shall not be subject to the pre-decisional objection process and implementation may proceed immediately after notification of the decision (§ 218.21(d)(1)). The responsible official shall identify any emergency situation determination made for a project in the notification of the decision (§ 218.21(e)). The Forest is also seeking alternative arrangements with the Council on Environmental Quality; arrangements may include but are not limited to a reduced comment period on the draft EIS and release of the final EIS and record of decision at the same time.

Comment Requested

This Notice of Intent initiates the scoping process which guides the development of the EIS. Comments on the proposed action should be submitted within 30 days of the date of publication of this Notice of Intent in the Federal Register.

Early Notice of Importance of Public Participation in Subsequent Environmental Review: The draft EIS is expected to be filed with the Environmental Protection Agency (EPA) and to be available for public review by March 2015. A draft EIS will be available for comment when the Environmental Protection Agency publishes the notice of availability in the Federal Register. The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate during the comment period so that substantive comments and objections are made available to the Forest Service at a time when it can meaningfully consider them and respond to them in the final EIS. The final EIS is scheduled to be completed in June 2015.

To assist the Forest Service in identifying and considering issues and concerns on the proposed action, comments on the proposal should be as specific as possible.

Comments received, including the names and addresses of those who comment, will be considered part of the public record on this proposal and will be available for public inspection. (Authority: 40 CFR 1501.7 and 1508.22; Forest Service Handbook 1909.15, Section 21)

Dated: October 8, 2014.
Patricia A. Grantham,
Forest Supervisor.

[FR Doc. 2014-24441 Filed 10-14-14; 8:45 am]

BILLING CODE 3411-15-P